FEDERAL ELECTION COMMISSION

Sunshine Act Meetings

TIME AND DATE: THURSDAY, JULY 17, 2025, 10:00 a.m.

PLACE: HYBRID MEETING: 1050 FIRST STREET NE, WASHINGTON, DC (12TH FLOOR) AND VIRTUAL.

STATUS: The July 17, 2025 Open Meeting has been canceled.

CONTACT PERSON FOR MORE INFORMATION: Myles Martin, Deputy Press Officer, Telephone: (202) 694-1221.

(Authority: Government in the Sunshine Act, 5 U.S.C. 552b)

Vicktoria J. Allen,
Deputy Secretary of the Commission.

[FR Doc. 2025-13248 Filed 7-11-25; 4:15 pm]

BILLING CODE 6715-01-P